DEPARTMENT OF DEFENSE

Office of the Secretary

[Docket ID DoD-2014-OS-0107]

Privacy Act of 1974; System of Records

AGENCY: Defense Intelligence Agency, DoD.

ACTION: Notice to delete a System of Records.

SUMMARY: The Defense Intelligence Agency is deleting a system of records notice from its existing inventory of records systems subject to the Privacy Act of 1974, as amended. The system notice is entitled “LDIA 10-0001, Equal Opportunity, Diversity and Alternate Dispute Resolution Records”.

DATES: Comments will be accepted on or before August 11, 2014. This proposed action will be effective the date following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery, DIA Privacy Act Compliance Officer, DAN 1C, 200 MacDill Blvd., Washington, DC 20340-0001; telephone (202) 231-1193.

SUPPLEMENTARY INFORMATION: The Defense Intelligence Agency systems of records notices subject to the Privacy Act of 1974 (5 U.S.C. 552a), as amended, have been published in the Federal Register and are available from the address in FOR FURTHER INFORMATION CONTACT or at the Defense Privacy and Civil Liberties Office Web site at http://dpclo.defense.gov/.

The proposed deletion is not within the purview of subsection (r) of the Privacy Act of 1974 (5 U.S.C. 552a), as amended, which requires the submission of a new or altered system report.

Dated: July 8, 2014.
Aaron Siegel,
Alternate OSD Federal Register Liaison Officer, Department of Defense.

Deletion

LDIA 10-0001

System name:

Equal Opportunity, Diversity and Alternate Dispute Resolution Records (June 15, 2010, 75 FR 33792)

Reason:

The records contained in this system of records have been migrated into the Conflict Management Programs system LDIA 13-0001 (November 20, 2013, 78 FR 69651). Therefore LDIA 10-0001, Equal Opportunity, Diversity and Alternate Dispute Resolution Records can be deleted.

[FR Doc. 2014-16251 Filed 7-10-14; 8:45 am]

BILLING CODE 5001-06-P